DEPARTMENT OF ENERGY

Federal Energy Regulatory Commission

Combined Notice of Filings

Take notice that the Commission has received the following Natural Gas Pipeline Rate and Refund Report filings:

Filings Instituting Proceedings

Docket Numbers: RP14-504-000.

Applicants: PGPipeline LLC.

Description: Annual Adjustment of Fuel and Gas Loss Retention Percentage to be effective 4/1/2014.

Filed Date: 2/24/14.

Accession Number: 20140224-5053.

Comments Due: 5 p.m. ET 3/10/14.

Docket Numbers: RP14-505-000.

Applicants: Empire Pipeline, Inc.

Description: Annual Report Pursuant to GTC 23.5 (CY2013).

Filed Date: 2/24/14.

Accession Number: 20140224-5056.

Comments Due: 5 p.m. ET 3/10/14.

Docket Numbers: RP14-506-000.

Applicants: Gulf South Pipeline Company, LP.

Description: PAL Neg Rate Agmts (42036, 42037, 42038, 42039, 42042, 42043, 42044) to be effective 2/22/2014.

Filed Date: 2/24/14.

Accession Number: 20140224-5101.

Comments Due: 5 p.m. ET 3/10/14.

Docket Numbers: RP14-507-000.

Applicants: Transcontinental Gas Pipe Line Company.

Description: Annual Fuel Tracker Filing 2014 to be effective 4/1/2014.

Filed Date: 2/24/14.

Accession Number: 20140224-5114.

Comments Due: 5 p.m. ET 3/10/14.

Docket Numbers: RP14-508-000.

Applicants: Stingray Pipeline Company, L.L.C.

Description: Event Tracker Filing to be effective 3/1/2014.

Filed Date: 2/24/14.

Accession Number: 20140224-5130.

Comments Due: 5 p.m. ET 3/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2014.
Nathaniel J. Davis, Sr.,
Deputy Secretary.

[FR Doc. 2014-04900 Filed 3-4-14; 8:45 am]

BILLING CODE 6717-01-P